SOCIAL SECURITY ADMINISTRATION

[Docket No. SSA-2008-0064]

Agreement on Social Security Between the United States and the Czech Republic; Entry Into Force

AGENCY: Social Security Administration.

ACTION: Notice.

SUMMARY: On January 1, 2009, an agreement coordinating the United States (U.S.) and the Czech Republic social security programs will enter into force. The agreement with the Czech Republic, which was signed on September 7, 2007, is similar to U.S. social security agreements already in force with 22 other countries. This agreement is authorized by section 233 of the Social Security Act. 42 U.S.C. 433.

The U.S.-Czech agreement eliminates dual social security coverage—a situation that exists when a worker from one country works in the other country and is covered under the social security systems of both countries for the same work. Without such agreements in force, when dual coverage occurs, the worker or the worker's employer or both may be required to pay social security contributions to the two countries simultaneously. Under the U.S.-Czech agreement, a worker who is sent by an employer in one country to work in the other country for 5 years or less remains covered only by the sending country.

The agreement includes additional rules that eliminate dual U.S. and Czech coverage in other work situations. The agreement also helps eliminate situations where workers suffer a loss of benefit rights because they have divided their careers between the two countries. Under the agreement, workers may qualify for partial U.S. benefits or partial Czech benefits based on combined (totalized) work credits from both countries.

If you want copies of the agreement or want more information about its provisions you may write to the Social Security Administration, Office of International Programs, Post Office Box 17741, Baltimore, MD 21235-7741 or visit the Social Security Web site at http://www.socialsecurity.gov/international.

Dated: December 23, 2008.
Michael J. Astrue,
Commissioner of Social Security.

[FR Doc. E8-31136 Filed 12-30-08; 8:45 am]

BILLING CODE 4191-02-P